NATIONAL AERONAUTICS AND SPACE ADMINISTRATION

[Notice 04-012]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: Linda Blackburn, Patent Counsel, Langley Research Center, Mail Code 212, Hampton, VA 23681-2199; telephone (757) 864-9260; fax (757) 864-9190.

NASA Case No. LAR-16499-1: Controlled Deposition and Alignment of Carbon Nanotubes;

NASA Case No. LAR-16539-1: Resonant Wingbeat Tuning Circuit Using Strain-Rate Feedback for Ornithoptic Micro Aerial Vehicles.

Dated: January 21, 2004.
Robert M. Stephens,
Deputy General Counsel.

[FR Doc. 04-1847 Filed 1-28-04; 8:45 am]

BILLING CODE 7510-01-P